DEPARTMENT OF THE INTERIOR

National Park Service

[NPS-WASO-NAGPRA-NPS0038406; PPWOCRADN0-PCU00RP14.R50000]

Notice of Inventory Completion: U.S. Department of Agriculture, Forest Service, Shoshone National Forest, Cody, WY

AGENCY: National Park Service, Interior.

ACTION: Notice.

SUMMARY: In accordance with the Native American Graves Protection and Repatriation Act (NAGPRA), the U.S. Department of Agriculture, Forest Service, Shoshone National Forest has completed an inventory of associated funerary objects and has determined that there is a cultural affiliation between the associated funerary objects and Indian Tribes or Native Hawaiian organizations in this notice.

DATES: Repatriation of the associated funerary objects in this notice may occur on or after September 5, 2024.

ADDRESSES: Ken Coffin, Forest Supervisor, Shoshone National Forest, 808 Meadow Lane Avenue, Cody, WY 82414, telephone (307) 578-5187, email kenneth.coffin@usda.gov.

SUPPLEMENTARY INFORMATION: This notice is published as part of the National Park Service's administrative responsibilities under NAGPRA. The determinations in this notice are the sole responsibility of the Shoshone National Forest, and additional information on the determinations in this notice, including the results of consultation, can be found in the inventory or related records. The National Park Service is not responsible for the determinations in this notice.

Abstract of Information Available

This notice supplements the original 2006 Notice of Inventory Completion published in the Federal Register (71 FR 9148-9149, February 22, 2006), which identifies human remains representing one individual and one associated funerary object (a mountain sheep hide). Following re-examination of materials collected from level 3/cultural level 36 by members of the Eastern Shoshone Tribe of the Wind River Reservation, Wyoming, the associated funerary objects have been determined to include an additional 226 cultural items. The 226 associated funerary objects are animal parts including bone, hair, horn, antler, teeth and hide; arrow shafts with wrapped sinew; grass bundles and grass moccasin liners; burial matrix and stones; calcite crystals; charred wood fragments; coiled basketry fragments; knotted cordage netting; feathers, unworked and modified; unidentified fibers; lithic materials; moccasin fragments; pigment; wood fragments; reed fragments; and seeds. These were removed from the Mummy Cave site in Park County, Wyoming between 1963 and 1966 by Harold McCracken and have been curated at the Buffalo Bill Center of the West (previously known as the Buffalo Bill Historical Center) since their removal.

Cultural Affiliation

Based on the information available and the results of consultation, cultural affiliation is reasonably identified by the geographical location or acquisition history of the associated funerary objects described in this notice.

Determinations

The Shoshone National Forest has determined that:

• The 226 objects described in this notice are reasonably believed to have been placed intentionally with or near individual human remains at the time of death or later as part of the death rite or ceremony.

• There is a reasonable connection between the associated funerary objects described in this notice and the Eastern Shoshone Tribe of the Wind River Reservation, Wyoming and the Shoshone-Bannock Tribes of the Fort Hall Reservation.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the associated funerary objects in this notice to a requestor may occur on or after September 5, 2024. If competing requests for repatriation are received, the Shoshone National Forest must determine the most appropriate requestor prior to repatriation. Requests for joint repatriation of the associated funerary objects are considered a single request and not competing requests. The Shoshone National Forest is responsible for sending a copy of this notice to the Indian Tribes and Native Hawaiian organizations identified in this notice.

Authority: Native American Graves Protection and Repatriation Act, 25 U.S.C. 3003, and the implementing regulations, 43 CFR 10.10.

Dated: July 26, 2024.
Melanie O'Brien,
Manager, National NAGPRA Program.

[FR Doc. 2024-17266 Filed 8-5-24; 8:45 am]

BILLING CODE 4312-52-P